DEPARTMENT OF TRANSPORTATION

Office of the Secretary

Aviation Proceedings, Agreements Filed the Week Ending January 29, 2011

The following Agreements were filed with the Department of Transportation under the Sections 412 and 414 of the Federal Aviation Act, as amended (49 U.S.C. 1382 and 1384) and procedures governing proceedings to enforce these provisions. Answers may be filed within 21 days after the filing of the application.

Docket Number: DOT-OST-2011-0013.

Date Filed: January 25, 2011.

Parties: Members of the International Air Transport Association.

Subject: Mail Vote 657TC3 Special Passenger Amending Resolution 010j Special Passenger Amending Resolution between Japan and China (excluding Hong Kong SAR and Macao SAR) (Memo 1413). Intended effective date: 21 January 2011.

Docket Number: DOT-OST-2011-0014.

Date Filed: January 25, 2011.

Parties: Members of the International Air Transport Association.

Subject: Mail Vote 658TC3 Special Passenger Amending Resolution 010k Special Passenger Amending Resolution between Brunei Darussalam and Malaysia (Memo 1414). Intended effective date: 1 February 2011.

Docket Number: DOT-OST-2011-0015.

Date Filed: January 24, 2011.

Parties: Members of the International Air Transport Association.

Subject: Mail Vote 632—Flex Fares ResolutionsTC1 Caribbean, Longhaul, Within South America-Tariffs, 8-17 March 2010 (Memo 0395). r1 041ee. Intended effective date: for travel on/after 1 July 2010.

Renee V. Wright,
Program Manager, Docket Operations, Federal Register Liaison.

[FR Doc. 2011-3974 Filed 2-25-11; 8:45 am]

BILLING CODE 4910-9X-P